DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before September 1, 2006.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form number, and OMB number (if any) in your comment. If you submit your comment via facsimile, send no more than five 8.5 × 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed and continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following information collections:

Title: Inventory—Manufacturer of Tobacco Products.

OMB Number: 1513-0032.

TTB Form Number: 5210.9.

Abstract: TTB F 5210.9 is used by tobacco product manufacturers to record inventories that are required by law. This form provides a uniform format for recording inventories and establishes tax liability on tobacco products, enabling TTB to determine that correct taxes have been or will be paid. The record retention requirement for this information collection is 3 years after the close of the year for which inventories and reports are filed.

Current Actions: There are no changes to this information collection, and it is being submitted for extension purposes only.

Type of Review: Extension of a currently approved collection.

Affected Public: Business or other for-profit.

Estimated Number of Respondents: 34.

Estimated Total Annual Burden Hours: 170.

Title: Usual and Customary Business Records Relating to Tax-Free Alcohol.

OMB Number: 1513-0059.

TTB Recordkeeping Requirement Number: 5150/3.

Abstract: Tax-free alcohol is used for nonbeverage purposes by educational organizations, hospitals, laboratories, etc. The use of alcohol free of tax is regulated to prevent illegal diversion to taxable beverage use. These records maintain spirits accountability and protect tax revenue and public safety. The record retention requirement for this information collection is 3 years.

Current Actions: There are no changes to this information collection, and it is being submitted for extension purposes only.

Type of Review: Extension of currently approved collection.

Affected Public: Not-for-profit institutions, Federal Government and State, Local or Tribal governments.

Estimated Number of Respondents: 4,560.

Estimated Total Annual Burden Hours: 4,560.

Title: Letterhead Applications and Notices Relating to Denatured Spirits.

OMB Number: 1513-0061.

TTB Recordkeeping Requirement Number: 5150/2.

Abstract: Denatured spirits are used for nonbeverage industrial purposes in the manufacture of personal and household products. Permits and applications control the spirits' authorized uses and flow, and protect tax revenue and public safety. The record retention requirement for this information collection is 3 years.

Current Actions: There are no changes to this information collection, and it is being submitted for extension purposes only.

Type of Review: Extension of a currently approved collection.

Affected Public: Business or other for-profit, Not-for-profit institutions, State, Local or Tribal governments.

Estimated Number of Respondents: 3,111.

Estimated Total Annual Burden Hours: 1,556.

Title: Tobacco Products Manufactures—Records of Operations.

OMB Number: 1513-0068.

TTB Recordkeeping Requirement Number: 5210/1.

Abstract: Tobacco products manufacturers must maintain a system of records that provide accountability over the tobacco products received and produced. This information collection ensures that tobacco transactions can be traced, and ensures that tax liabilities have been totally satisfied. The record retention requirement for this information collection is 3 years.

Current Actions: There are no changes to this information collection and it is being submitted for extension purposes only.

Type of Review: Extension of a currently approved collection.

Affected Public: Business or other for-profit.

Estimated Number of Respondents: 108.

Estimated Total Annual Burden Hours: 16,200.

Title: Tobacco Products Importer or Manufacturer-Records of Large Cigar Wholesale Prices.

OMB Number: 1513-0071.

TTB Recordkeeping Requirement Number: 5230/1.

Abstract: This information collection is used by tobacco products importers or manufacturers who import or make large cigars. Records are needed to verify wholesale prices of those cigars as the tax is based on those prices. This collection also ensures that all tax revenue due to the government is collected. The record retention requirement for this information collection is 3 years.

Current Actions: There are no changes to this information collection, and it is being submitted for extension purposes only.

Type of Review: Extension of a currently approved collection.

Affected Public: Business and other for-profit, Individuals or households.

Estimated Number of Respondents: 108.

Estimated Total Annual Burden Hours: 252.

Title: Monthly Report—Tobacco Products Importer.

OMB Number: 1513-0107.

TTB Form Number: 5220.6.

Abstract: Reports of the lawful importation and disposition of tobacco products dealers are necessary to determine whether those issued the permits required by 26 U.S.C. 5713 should be allowed to continue their operations or renew their permits.

Current Actions: There are changes to this information collection and it is being submitted as a revision of a currently approved collection. Specifically we are adding a field for an Employee Identification Number (EIN) and line items entitled, Imported and Released from Customs Custody into the United States, Returned from Domestic Customers, and Returned to Customs Custody.

Type of Review: Revision of a currently approved collection.

Affected Public: Business or other for-profit.

Estimated Number of Respondents: 1,500.

Estimated Total Annual Burden Hours: 18,000.

Dated: June 27, 2006.
Theresa McCarthy,
Acting Director, Regulations and Rulings Division.

[FR Doc. E6-10385 Filed 6-30-06; 8:45 am]

BILLING CODE 4810-31-P